DEPARTMENT OF HOMELAND SECURITY

Federal Emergency Management Agency

[Docket ID FEMA-2024-0002; Internal Agency Docket No. FEMA-B-2458]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before November 27, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2458, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

Community | Community map repository address
Ontario County, New York (All Jurisdictions)
Project: 19-02-0022S Preliminary Date: July 14, 2023
City of Canandaigua | City Hall, 2 North Main Street, Canandaigua, NY 14424.
City of Geneva | City Hall, 47 Castle Street, Geneva, NY 14456.
Town of Bristol | Bristol Town Hall, 6740 County Road 32, Canandaigua, NY 14424.
Town of Canadice | Canadice Town Hall, 5949 County Road 37, Springwater, NY 14560.
Town of Canandaigua | Town Hall, 5440 Route 5 & 20 West, Canandaigua, NY 14424.
Town of East Bloomfield | East Bloomfield Town Hall, 99 Main Street, Bloomfield, NY 14469.
Town of Farmington | Town Hall, 1000 County Road 8, Farmington, NY 14425.
Town of Geneva | Town Hall, 3750 County Road 6, Geneva, NY 14456.
Town of Gorham | Town Hall, 4736 South Street, Gorham, NY 14461.
Town of Hopewell | Hopewell Town Hall, 2716 County Road 47, Canandaigua, NY 14424.
Town of Manchester | Manchester Town Hall, 1272 County Road 7, Clifton Springs, NY 14432.
Town of Naples | Town Hall, 106 South Main Street, Naples, NY 14512.
Town of Phelps | Town Hall, 79 Main Street, Phelps, NY 14532.
Town of Richmond | Richmond Town Hall, 8690 Main Street, Honeoye, NY 14471.
Town of Seneca | Seneca Town Hall, 3675 Flint Road, Stanley, NY 14561.
Town of South Bristol | South Bristol Town Hall, 6500 West Gannett Hill Road, Naples, NY 14512.
Town of Victor | Town Hall, 85 East Main Street, Victor, NY 14564.
Town of West Bloomfield | Town Hall, 9097 Daylight Drive, West Bloomfield, NY 14585.
Village of Clifton Springs | Village Hall, 1 West Main Street, Clifton Springs, NY 14432.
Village of Manchester | Village Office, 8 Clifton Street, Manchester, NY 14504.
Village of Naples | Village Hall, 106 South Main Street, Naples, NY 14512.
Village of Phelps | Village Clerk's Office, 8 Banta Street, Suite 150, Phelps, NY 14532.
Village of Rushville | Village Hall, 1 South Main Street, Rushville, NY 14544.
Village of Shortsville | Village Hall, 6 East Main Street, Shortsville, NY 14548.
Village of Victor | Village Hall, 60 East Main Street, Victor, NY 14564.

[FR Doc. 2024-19434 Filed 8-28-24; 8:45 am]

BILLING CODE 9110-12-P